NUCLEAR REGULATORY COMMISSION

[Docket No. 030-36000]

Environmental Assessment and Finding of No Significant Impact for a New Byproduct Material License Requested by the U.S. Army Contaminated Equipment Retrograde Team Field Service Facility, Rock Island Arsenal, Rock Island, IL; Notice of Availability

Environmental Assessment Summary

The U.S. Nuclear Regulatory Commission is considering issuing a new Byproduct Material License Number 12-00722-15 to the Department of the Army to authorize the collection of unwanted Army commodities containing radiological sources, and preparation of these sources for shipment and proper disposal using the Army Contaminated Equipment Retrograde Team Field Services Facility (ACERTSF) located in Rock Island, Illinois.

This Environmental Assessment (EA) reviewed the potential environmental impacts associated with the proposed activities outlined in the Department of the Army's April 10, 2002, license application. The EA considered the licensee's proposed radiation protection program, and the types, quantities, the physical forms of the radioactive materials to be received, processed, stored and shipped by the Army at its proposed location. The EA included evaluation of the building, adjoining grounds, security, fire protection, and engineering controls used to ensure the safe use of licensed materials.

Proposed Action

The ACERTSF proposes to receive unwanted DoD commodities containing radiological sources, consolidate the sources into U.S. Department of Transportation (DOT) approved shipping containers, and ship the consolidated sources to an NRC approved disposal facility, or to another authorized NRC or Agreement State licensee for reuse.

The Service Facility will process radioactive sealed sources or commodities containing radioactive material in solid, non-dispersible form. The consolidation process will not involve any physical or chemical work which could damage or change the integrity of the radioactive sealed sources. If a commodity is determined to be damaged upon receipt with the potential for leakage of the radioactive sealed source, it will be repackaged appropriately, without any processing, and sent to an appropriate waste disposal facility.

The isotopes to be received will include americium-241, carbon-14, cesium-137, lead-210, nickel-63, promethium-147, cobalt-60, strontium-90, thorium (natural and alloyed with magnesium), uranium (depleted), special nuclear material (check sources only) and sealed sources in gaseous form i.e. hydrogen 3 and krypton 85. The radioactive sealed sources have been evaluated and registered with the NRC pursuant to 10 CFR Part 32, § 32.210, Registration of product information. Additionally, ACERTSF management has established maximum possession limits for each isotope, such that an Emergency Plan pursuant to 10 CFR Part 30, § 30.72 Schedule C—Quantities of radioactive materials requiring consideration of the need for an emergency plan for responding to a release, is not required. The Army also does not intend to store radioactive material for long periods of time. The Army has committed to make shipments of material after repackaging, approximately every 180 days.

Need for Proposed Action

The Army request will:

• Reduce personnel and transportation costs associated with the retrieval of the sealed sources, from temporary job-sites throughout the U.S. or U.S. military bases in other countries;

• Reduce the disposal cost, since the use of each DOT shipping container can be maximized by filling each container to capacity rather than putting one device/sealed source in it for disposal;

• Conserve limited land disposal resources;

• Ensure that the personnel retrieving the sealed sources and devices are specifically authorized to perform these activities, and that they have the most current and highest level of radiological training;

• Ensure that processing of the radioactive materials will be done in a specially designed facility, rather than at temporary job-sites and foreign US military bases; and

• Reduce the turn around time for receipt of reports of leak tests performed on radioactive sources, to verify their acceptability for receipt or transfer.

Environmental Impacts of the Proposed Action

NRC staff reviewed the proposed consolidation and recycle activities, the licensed radiation protection program, and the potential for release of radioactive materials from the Service Facility. The work practices and safety criteria are specified in the Army's application so that operational activities will meet the 10 CFR Part 20 radiation protection requirements. Worker and public doses will be limited so that exposures will not exceed Part 20 requirements and are as low as reasonably achievable.

The EA also addressed other Non-radiological impacts, such as transportation, air quality, noise, environmental justice, and endangered species.

Alternatives to the Proposed Action

The alternatives, and the associated impacts and conclusions, are discussed in the EA. These included: no action; contracting with private vendors; and, the proposed action.

Conclusions

Based on the NRC staff evaluation of the licensee's April 10, 2002 license application, for the Rock Island Arsenal facility, as documented in the EA, the staff has determined that the proposed activities can be accomplished in compliance with NRC's public and occupational dose limits, effluent release limits, and residual radioactive material limits. In addition, the issuance of the license will not result in a significant adverse impact on the public health and safety or the environment.

Agencies and Individuals Contacted

NRC staff consulted with the Illinois Department of Nuclear Safety.

Finding of No Significant Impact

Based upon the analysis documented in the EA, the Commission concludes that the proposed action will not have a significant impact on the quality of the human environment. Accordingly, the Commission has determined not to prepare an environmental impact statement for the proposed action.

The NRC Notice of Opportunity for a Hearing will consider all written comments received before July 31, 2002. Comments received after July 31, 2002, may be considered if time permits. Comments should be addressed to the contact listed below.

ADDRESSES: The document U.S. Army Contaminated Equipment Retrograde Team Field Service Facility, Rock Island, Illinois, Environmental Assessment, Finding of No Significant Impact, is available for inspection and copying for a fee at the Commission's Public Document Room, U.S. NRC, Region III, 801 Warrenville Road, Lisle, Illinois 60532.

SUPPLEMENTARY INFORMATION: The EA is available for review at NRC's Electronic Reading Room, on the NRC's Web site at http://www.nrc.gov/reading-rm/adams.html. The accession [file] number for this document is ML021790380. The NRC Project Manager for this action is Mr. George McCann. Mr. McCann can be reached at (630) 829-9856 at the following address: U.S. Nuclear Regulatory Commission, 801 Warrenville Rd., Lisle, Illinois 60532-4351.

Dated at Lisle, Illinois this 28th day of June, 2002.
For the Nuclear Regulatory Commission.
Bruce L. Jorgensen,
Chief, Decommissioning Branch, Division of Nuclear Materials Safety, RIII.

[FR Doc. 02-17119 Filed 7-8-02; 8:45 am]

BILLING CODE 7590-01-P